DEPARTMENT OF ENERGY

Federal Energy Regulatory Commission

[Project No. 14968-000]

Notice of Preliminary Permit Application Accepted for Filing and Soliciting Comments, Motions To Intervene, and Competing Applications: Lock+™ Hydro Friends Fund XV, LLC

On March 1, 2019, Lock+™ Hydro Friends Fund XV, LLC, filed an application for a preliminary permit, pursuant to section 4(f) of the Federal Power Act (FPA), proposing to study the feasibility of the Francis Walter Dam Hydropower Project to be located at the U.S. Army Corps of Engineers' (Corps) Francis Walter Dam on the Lehigh River in Luzerne County, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) A new 30-foot-wide, 30-foot-deep, 160-foot-tall modular frame structure to be installed at the intake for the outlet pipe adjacent to the outlet tower, containing two turbine-generator units with a rated capacity of 2,400 kilowatts each; (2) a new switchgear and control room located in the modular structure; and (3) a new 13-kilovolt transmission line connecting the modular structure with a nearby existing electrical grid. The proposed project would have an annual generation of 20,000 megawatt-hours.

Applicant Contact: Wayne Crouse, Lock+™ Hydro Friends Fund XV, LLC, PO Box 43796, Birmingham, AL 35243; phone: 877-556-6566, ext. 709.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14968-000.

More information about this project, including a copy of the application, can be viewed or printed on the eLibrary link of the Commission's website at http://www.ferc.gov/docs-filing/elibrary.asp. Enter the docket number (P-14968) in the docket number field to access the document. For assistance, contact FERC Online Support.

Dated: August 28, 2019
Kimberly D. Bose,
Secretary.

[FR Doc. 2019-19070 Filed 9-3-19; 8:45 am]

BILLING CODE 6717-01-P